COMMITTEE FOR PURCHASE FROM PEOPLE WHO ARE BLIND OR SEVERELY DISABLED

Procurement List Additions

AGENCY: Committee for Purchase From People Who Are Blind or Severely Disabled.

ACTION: Additions to the Procurement List.

SUMMARY: This action adds products and a service to the Procurement List that will be furnished by nonprofit agencies employing persons who are blind or have other severe disabilities.

DATES: Effective Date: 2/20/2012.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or email CMTEFedReg@AbilityOne.gov.

SUPPLEMENTARY INFORMATION:

Additions

On 11/14/2011 (76 FR 70423-70424) and 11/18/2011 (76 FR 71554), the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 U.S.C. Chapter 85 and 41 CFR 51-2.4.

Regulatory Flexibility Act Certification

I certify that the following action will not have a significant impact on a substantial number of small entities. The major factors considered for this certification were:

1. The action will not result in any additional reporting, recordkeeping, or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection with the products and service proposed for addition to the Procurement List.

End of Certification

Accordingly, the following products and service are added to the Procurement List:

Products

NSN: 8920-00-NSH-0130—Sweet Roll Mix, 6—5 lb bags.

NSN: 8920-00-NSH-0131—Sweet Roll Mix, 6—4 lb cans.

NSN: 8920-00-NSH-0132—Hot Roll Mix, 6—5 lb bags.

NSN: 8920-00-NSH-0133—Hot Roll Mix, 6—4 lb cans.

NPA: Transylvania Vocational Services, Inc., Brevard, NC.

Contracting Activity: Defense Logistics Agency Troop Support, Philadelphia, PA.

Coverage: C-List for 100% of the requirement of the Department of Defense, as aggregated by the Defense Logistics Agency Troop Support, Philadelphia, PA.

Service

Service Type/Location: Base Supply Center, Joint Base Andrews Naval Air Facility Washington, 1500 West Perimeter Road, Suite 2780, Joint Base Andrews, MD.

NPA: Blind Industries & Services of Maryland, Baltimore, MD.

Contracting Activity: Dept. of the Air Force, FA2860 11 Cons Lgc, Andrews AFB, MD.

Barry S. Lineback,
Director, Business Operations.

[FR Doc. 2012-1061 Filed 1-19-12; 8:45 am]

BILLING CODE 6353-01-P